SECURITIES AND EXCHANGE COMMISSION

Sunshine Act Meetings

FEDERAL REGISTER CITATION OF PREVIOUS ANNOUNCEMENT: 82 FR 60252, December 19, 2017.

PREVIOUSLY ANNOUNCED TIME AND DATE OF THE MEETING: Thursday, December 21, 2017.

CHANGES IN THE MEETING: The following matter will also be considered during the 2 p.m. Closed Meeting scheduled for Thursday, December 21, 2017: Litigation matter.

CONTACT PERSON FOR MORE INFORMATION: For further information and to ascertain what, if any, matters have been added, deleted or postponed, please contact the Office of the Secretary at (202) 551-5400.

Dated: December 20, 2017.
Brent J. Fields,
Secretary.

[FR Doc. 2017-27833 Filed 12-21-17; 11:15 am]

BILLING CODE 8011-01-P